DEPARTMENT OF HEALTH AND HUMAN SERVICES

Health Resources and Services Administration

Agency Information Collection Activities: Proposed Collection: Public Comment Request; Information Collection Request Title: Ryan White HIV/AIDS Program: Allocations Report Forms, OMB No. 0915-0318—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 17, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Ryan White HIV/AIDS Program: Allocations Reports, OMB No. 0915-0318—Revision.

Abstract: HRSA administers the Ryan White HIV/AIDS Program (RWHAP) authorized under Title XXVI of the Public Health Service Act. The RWHAP Allocations Reports allow HRSA to monitor and track the use of grant funds for compliance with statutory, program and grants requirements. To avoid duplication and reduce recipient reporting burden, HRSA created an electronic grantee contract management system (GCMS) that includes data required for the Allocations Reports. Recipients can access GCMS year-round to upload or manually enter data on their service provider contractors or subrecipients, the RWHAP core medical and support services provided, and their funding amounts. Data required for Allocations Reports are automatically prepopulated from GCMS.

Background Regarding Allocations and Expenditures Reports: Recipients funded under RWHAP Parts A, B, C, and D are required to report financial data to HRSA at the beginning (Allocations Report) and at the end (Expenditures Report) of their grant budget period. The Allocations Reports request information recipients already collect, including the use of RWHAP grant funds for core medical and support services; and on various program components, such as administration, planning and evaluation, and clinical quality management. Additionally, RWHAP Parts A and B recipients funded under the Ending the HIV Epidemic in the U.S. (EHE) initiative are also required to report allocations of the grant budget period in the EHE Allocations and Expenditure Reports. This allows HRSA to track and report progress toward meeting the EHE goals.

For this submission, HRSA proposes to extend the following report forms in their current status:

• RWHAP Part A Allocations Report

• RWHAP Part B Allocations Report

• RWHAP Part B Supplemental Allocations Report

• RWHAP Part C Allocations Report

• RWHAP Part D Allocations Report

• Ending the HIV Epidemic (EHE) Initiative Allocations Report

Need and Proposed Use of the Information: Accurate allocation records of recipients receiving RWHAP and EHE funding are necessary for HRSA to fulfill its monitoring and oversight responsibilities.

Likely Respondents: RWHAP Part A, Part B, Part C, and Part D recipients.

Burden Statement: Burden in this context means the time expended by persons to generate, maintain, retain, disclose, or provide the information requested. This includes the time needed to review instructions; to develop, acquire, install, and use technology and systems for the purpose of collecting, validating and verifying information, processing and maintaining information, and disclosing and providing information; to train personnel and to be able to respond to a collection of information; to search data sources; to complete and review the collection of information; and to transmit or otherwise disclose the information. The total annual burden hours estimated for this ICR are summarized in the table below. HRSA expects a small decline of 268 burden hours compared to the currently approved collection, due to RWHAP recipients' familiarity with the updated reporting requirements introduced in the currently approved collection.

Total Estimated Annualized Burden Hours
Form name | Number of respondents | Number of responses per respondent | Total responses | Average burden per response (in hours) | Total burden hours
Part A Allocations Report | 52 | 1 | 52 | 2 | 104
Part B Allocations Report | 54 | 1 | 54 | 6 | 324
Part B Supplemental Allocations Report | 33 | 1 | 33 | 2 | 66
Part C Allocations Report | 346 | 1 | 346 | 3 | 1,038
Part D Allocations Report | 116 | 1 | 116 | 5 | 580
EHE Allocations Report | 47 | 1 | 47 | 4 | 188
Total | 648 |  |  |  | 2,300

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-23432 Filed 12-18-25; 8:45 am]

BILLING CODE 4165-15-P